ENVIRONMENTAL PROTECTION AGENCY

[ER-FRL-6695-1]

Environmental Impacts Statements; Notice of Availability

Responsible Agency: Office of Federal Activities, General Information (202) 564-7167 or http://www.epa.gov/compliance/nepa/.

Weekly receipt of Environmental Impact Statements Filed 01/07/2008 through 01/11/2008. Pursuant to 40 CFR 1506.9.

EIS No. 20080008, Draft EIS, NPS, NY, Governors Island National Monument, General Management Plan, Implementation, New York Harbor, NY, Comment Period Ends: 03/18/2008, Contact: Christine Gobrial 215-597-1572.

EIS No. 20080009, Final EIS, AFS, WY, Lower Valley Energy (LVE) Natural Gas Pipeline Project, Construction and Operation of a Pressurized Natural Gas Pipeline, Special-Use-Authorization, Big Piney and Jackson Ranger Districts, Bridger-Teton National Forest, Sublette and Teton Counties, WY, Wait Period Ends: 02/19/2008, Contact: Greg Clark 307-276-3375.

EIS No. 20080010, Draft EIS, FHW, 00, US-231/I-10 Connector Project HPP-1602-(507), Proposal to Build Limited Access Facility from U.S. 231 North of Dothan to the Alabama/Florida State Line, Dale, Houston, Geneva Counties, AL, Comment Period Ends: 03/03/2008, Contact: Mark D. Bartlett 334-223-7370.

EIS No. 20080011, Final EIS, FHW, AK, Knik Arm Crossing Project, To Provide Improved Access between the Municipality of Anchorage and Matanuska-Susitna Borough, AK, Wait Period Ends: 02/19/2008, Contact: Edrie Vinson 907-586-7464.

EIS No. 20080012, Final EIS, NAS, 00, Programmatic—Constellation Program, Develop the Flight Systems and Earth-based Ground Infrastructure for Future Missions, International Space Station, The Moon, Mars, and Beyond, Brevard and Volusia Counties, FL; Hancock County, MS; Orlean Parish, LA; Harris County, TX; Madison County, AL; Cuyahoga and Erie Counties, OH; Hampton, VA; Santa Clara County, CA; Dona Ana and Otero Counties, NM; and Box Elder and Davis Counties, UT, Wait Period Ends: 02/19/2008, Contact: Kathleen Callister 202-358-1953.

EIS No. 20080013, Draft EIS, AFS, NM, Santa Fe National Forest Project, Settlement Land Transfers: Pueblo de San lldefonso, Pueblo of Santa Clara and Los Alamos County, Implementation, Santa Fe National Forest, Los Alamos, Rio Arriba and Santa Fe Counties, NM, Comment Period Ends: 03/03/2008, Contact: Sandy Hurlocked 505-753-7331.

EIS No. 20080014, Draft EIS, NPS, WA,San Juan Island National Historical Park, General Management Plan, Implementation, WA, Comment Period Ends: 03/17/2008, Contact: Cheryl Teaque 206-220-4112.

EIS No. 20080015, Draft EIS, BLM, WY, Westside Land Conveyance Project, Congressionally-Mandated Transfer of 16,500 Acres of Public Land to the Westside Irrigation District, Big Horn and Washakie Counties, WY, Comment Period Ends: 03/03/2008, Contact: Don Ogaard 307-347-5160. This document is available on the Internet at: http://www.blm.gov/wy/st/en/info/NEPA/wfodocs/westside.html.

EIS No. 20080016, Draft EIS, FHW, ID, Three Cities River Crossing Project, New Roadway Crossing of the Boise River at the Juncture of the Cities of Boise, Eagle and Garden, Ada County Highway District (ACHD), Ada County, ID, Comment Period Ends: 03/03/2008, Contact: Ross Blanchard 208-334-9180.

EIS No. 20080017, Final EIS, COE, CA, San Clemente Dam Seismic Safety Project, Increase Dam Safety to Meet Current Design Standards, Monterey County, CA, Wait Period Ends: 02/19/2008, Contact: Robert Smith 415-503-6792.

EIS No. 20080018, Draft EIS, FHW, CA, Phase I—CA 11 Corridor Location and Route Adoption and Location Identification of the Otay Mesa East Port of Entry (POE) on Otay Mesa, Presidential Permit for the POE and Acquisition of Right-of-Way Permit, San Diego County, CA, Comment Period Ends: 03/03/2008, Contact: Cesar Perez 916-498-5065.

EIS No. 20080019, Draft EIS, MMS, 00, Cape Wind Energy Project, Construction, Operation and Maintenance, and Decommissioning of a Electric Generation Facility, Barnstable, Nantucket and Duke County, MA and Washington County, RI, Comment Period Ends: 03/20/2008, Contact: Dr. Rodney E. Cluck 703-787-1087.

EIS No. 20080020, Final EIS, FRC, NY, Broadwater Liquefied Natural Gas (LNG) Project, Construction and Operation a Natural Gas Pipeline Facilities, (Docket Nos. CP06-54, et al.), Long Island Sound, NY, Wait Period Ends: 02/19/2008, Contact: Andy Black 1-866-208-3372.

Amended Notices

EIS No. 20070508, Draft EIS, AFS, 00, Wild and Scenic River Suitability Study for National Forest System Lands on the Ashley, Dixie, Fishlake, Manti-La Sal, Uinta and Wasatch-Cache National Forests in UT and Portion of National Forests extend into Colorado and Wyoming, several counties, UT, Montrose County, CO and Uinta County, WY, Wait Period Ends: 02/15/2008, Contact: Catherine Kahlow 435-783-4338. Revision of FR Notice Published 12/07/2007: Extending Comment Period from 01/22/2008 to 02/15/2008.

Dated: January 15, 2008.
Robert W. Hargrove,
Director, NEPA Compliance Division, Office of Federal Activities.

[FR Doc. E8-881 Filed 1-17-08; 8:45 am]

BILLING CODE 6560-50-P